DEPARTMENT OF AGRICULTURE

Animal and Plant Health Inspection Service

9 CFR Part 77

[Docket No. APHIS-2008-0124]

Tuberculosis in Cattle and Bison; State and Zone Designations; New Mexico

AGENCY: Animal and Plant Health Inspection Service, USDA.

ACTION: Affirmation of interim rule as final rule.

SUMMARY: We are adopting as a final rule, without change, an interim rule that amended the bovine tuberculosis regulations by establishing two separate zones with different tuberculosis risk classifications for the State of New Mexico. Prior to the interim rule, the entire State of New Mexico had been classified as modified accredited advanced; however, all its affected herds were located in Curry and Roosevelt Counties, NM, along the State's eastern border. The interim rule was necessary to relieve restrictions on the interstate movement of cattle and bison from areas of New Mexico outside those two counties.

DATES: Effective on September 23, 2009, we are adopting as a final rule the interim rule published at 74 FR 12055-12058 on March 23, 2009.

FOR FURTHER INFORMATION CONTACT: Dr. C. William Hench, Senior Staff Veterinarian, National Tuberculosis Eradication Program, Veterinary Services, APHIS, 2150 Centre Ave, Bldg B, MSC 3E20, Ft. Collins, CO 80526; (970) 494-7378.

SUPPLEMENTARY INFORMATION:

Background

Bovine tuberculosis is a contagious and infectious granulomatous disease caused by the bacterium Mycobacterium bovis. Although commonly defined as a chronic debilitating disease, bovine tuberculosis can occasionally assume an acute, rapidly progressive course. While any body tissue can be affected, lesions are most frequently observed in the lymph nodes, lungs, intestines, liver, spleen, pleura, and peritoneum. Although cattle are considered to be the true hosts of M. bovis, the disease has been reported in several other species of both domestic and nondomestic animals, as well as in humans.

At the beginning of the past century, tuberculosis caused more losses of livestock than all other livestock diseases combined. This prompted the establishment in the United States of the National Cooperative State/Federal Bovine Tuberculosis Eradication Program for tuberculosis in livestock.

In carrying out the national eradication program, the Animal and Plant Health Inspection Service (APHIS) issues and enforces regulations. The regulations require the testing of cattle and bison for tuberculosis, define the Federal tuberculosis status levels for States or zones (accredited-free, modified accredited advanced, modified accredited, accreditation preparatory, and nonaccredited), provide the criteria for attaining and maintaining those status levels, and contain testing and movement requirements for cattle and bison leaving States or zones of a particular status level. These regulations are contained in 9 CFR part 77 (referred to below as the regulations) and in the Bovine Tuberculosis Eradication Uniform Methods and Rules, 1999, which is incorporated by reference into the regulations.

According to the regulations, if bovine tuberculosis is detected in a portion of a State, the State may request split-State status via partitioning into specific geographic regions or zones with differential status designations. With regard to cattle and bison, State animal health officials in New Mexico demonstrated to APHIS that New Mexico, excluding Curry and Roosevelt Counties, meets the criteria for accredited-free status set forth in the definition of accredited-free State or zone in § 77.5 of the regulations.

Therefore, we amended the regulations in an interim rule ¹ effective and published in the Federal Register on March 23, 2009 (74 FR 12055-12058, Docket No. APHIS-2008-0124), by removing New Mexico from the list of modified accredited States in § 77.9(a), adding an area consisting of Curry and Roosevelt Counties, NM, to the list of modified accredited advanced zones in § 77.9(b), and adding the remainder of the State to the list of accredited-free zones in § 77.7(b).

¹ To view the interim rule, go to http://www.regulations.gov/fdmspublic/component/main?main=DocketDetail&d=APHIS-2008-0124.

Comments on the interim rule were required to be received on or before May 22, 2009. We did not receive any comments by that date. Therefore, for the reasons given in the interim rule, we are adopting the interim rule as a final rule without change.

We note that the indefinite delay ² in compliance with certain identification and certification requirements in § 77.10 of the regulations will continue to apply with respect to Curry and Roosevelt Counties, NM, which continue to hold modified accredited advanced status. The specific provisions of § 77.10 for which we delayed the compliance date were as follows:

² The delay was put into place in an interim rule published in the Federal Register on September 11, 2008 (73 FR 52775-52777, Docket No. APHIS-2008-0068). The interim rule may be viewed on the Internet at http://www.regulations.gov/fdmspublic/component/main?main=DocketDetail&d=APHIS-2008-0068.

• The identification of sexually intact heifers moving to approved feedlots and steers and spayed heifers moving to any destination (§ 77.10(b));

• The identification requirements for sexually intact heifers moving to feedlots that are not approved feedlots (§ 77.10(d)); and

• Because identification is required for certification, the certification requirements for sexually intact heifers moving to unapproved feedlots (§ 77.10(d)).

This action also affirms the information contained in the interim rule concerning Executive Order 12866 and the Regulatory Flexibility Act, Executive Orders 12372, and the Paperwork Reduction Act.

Further, for this action, the Office of Management and Budget has waived its review under Executive Order 12866.

List of Subjects in 9 CFR Part 77

Animal diseases, Bison, Cattle, Reporting and recordkeeping requirements, Transportation, Tuberculosis.

PART 77—TUBERCULOSIS

Accordingly, we are adopting as a final rule, without change, the interim rule that amended 9 CFR part 77 and that was published at 74 FR 12055-12058 on March 23, 2009.

Done in Washington, DC, this 18th day of September 2009.
Kevin Shea,
Acting Administrator, Animal and Plant Health Inspection Service.

[FR Doc. E9-22960 Filed 9-22-09; 8:45 am]

BILLING CODE 3410-34-P